DEPARTMENT OF COMMERCE

International Trade Administration

[A-570-863]

Seventh Administrative Review of Honey From the People's Republic of China: Second Extension of Time Limit for the Preliminary Results

AGENCY: Import Administration, International Trade Administration, Department of Commerce.

EFFECTIVE DATE: October 7, 2009.

FOR FURTHER INFORMATION CONTACT: Catherine Bertrand, AD/CVD Operations, Office 9, Import Administration, International Trade Administration, U.S. Department of Commerce, 14th Street and Constitution Avenue, NW, Washington DC 20230; telephone- (202) 482-3207.

Background

On February 2, 2009, the Department of Commerce (“Department”) published a notice of initiation of an administrative review of honey from the People's Republic of China (“PRC”), covering the period December 1, 2007 through November 30, 2008. See Initiation of Antidumping and Countervailing Duty Administrative Reviews and Requests for Revocation in Part, 74 FR 5821 (February 2, 2009). On March 6, 2009, after receiving comments on U.S. Customs and Border Protection data, the Department selected Anhui Native Produce Import & Export Corp. (“Anhui Native”) and Qinhuangdao Municipal Dafeng Industrial Co., Ltd. (“QMD”) as the mandatory respondents for this review.

The Department sent its antidumping questionnaire to Anhui Native and QMD on March 9, 2009. The Department was unable to deliver its questionnaire to QMD due to incorrect addresses. See Memorandum to the File from Blaine Wiltse, Case Analyst, RE: Seventh Administrative Review of Honey from the People's Republic of China (“PRC”): Incorrect Addresses for QMD, dated March 27, 2009. On March 30, 2009, Dongtai Peak Honey Industry Co., Ltd. (“Dongtai Peak”) requested treatment as a voluntary respondent, and submitted its Section A response to the Department.

On April 13, 2009, the Department selected Dongtai Peak as a voluntary respondent for this review. On April 14, 2009, Dongtai Peak submitted its Sections C and D response to the Department. On April 15, 2009, Anhui Native withdrew its participation from the current review.

On June 8, 2009, and June 16, 2009, the Department sent its Supplemental Sections A, C, and D Questionnaire and its Importer Specific Supplemental Questionnaire to Dongtai Peak. On July 8, 2009, and July 13, 2009, Dongtai Peak submitted its response to the Department's Importer Specific Supplemental Questionnaire and Supplemental Sections A, C, and D Questionnaire. The Department previously extended this review by 60 days. See Seventh Administrative Review of Honey from the People's Republic of China: Extension of Time Limit for the Preliminary Results, 74 FR 41679 (August 18, 2009). The preliminary results of this administrative review are currently due on November 2, 2009.

Extension of Time Limit for the Preliminary Results

The Department determines that completion of the preliminary results of this review by November 2, 2009 is not practicable. The Department requires more time to gather and analyze surrogate value information pertaining to this company. Additionally, the Department intends to provide additional time for interested parties to provide comments on supplemental questionnaires and suggested surrogate values. Lastly, the Department requires additional time to analyze the supplemental questionnaire that was already issued. Therefore, in accordance with section 751(a)(3)(A) of the Tariff Act of 1930, as amended (“Act”), we are extending the time period for issuing the preliminary results of review by 45 days until December 16, 2009. The final results continue to be due 120 days after the publication of the preliminary results.

This notice is published pursuant to section 751(a)(3)(A) of the Act and 19 CFR 351.213(h)(2).

Dated: September 30, 2009.
John M. Andersen,
Acting Deputy Assistant Secretary for Antidumping and Countervailing Duty Operations.

[FR Doc. E9-24239 Filed 10-6-09; 8:45 am]

BILLING CODE 3510-DS-S